ENVIRONMENTAL PROTECTION AGENCY

[FRL—10006-57-OLEM]

Resource Conservation and Recovery Act (RCRA); Contractor Access to Confidential Business Information

AGENCY: Environmental Protection Agency (EPA).

ACTION: Notice of Contractor/Subcontractor Access to Data and Request for Comments.

SUMMARY: EPA intends to authorize its contractors, Plateau, and their subcontractor, Eastern Research Group (ERG) as well as SRA International, Inc. to access Confidential Business Information (CBI) which has been submitted to EPA under the authority of all sections of the Resource Conservation and Recovery Act (RCRA) of 1976, as amended. EPA has issued regulations that outline business confidentiality provisions for the Agency and require all EPA offices that receive information designated by the submitter as CBI to abide by these provisions.

DATES: Comments on this notice are due March 27, 2020. Comments may be sent to LaShan Haynes, Document Control Officer, Office of Resource Conservation and Recovery, (5305P), U.S. Environmental Protection Agency, 1200 Pennsylvania Avenue NW, Washington, DC 20460.

FOR FURTHER INFORMATION CONTACT: LaShan Haynes, Document Control Officer, Office of Resource Conservation and Recovery, (5305P), U.S. Environmental Protection Agency, 1200 Pennsylvania Avenue NW, Washington, DC 20460; 703-605-0516.

SUPPLEMENTARY INFORMATION:

Access to Confidential Business Information (CBI)

The EPA has issued regulations at 40 CFR part 2, subpart B that outline business confidentiality provisions for the Agency and require all EPA offices that receive information designated by the submitter as CBI to abide by these provisions. Specifically, 40 CFR 2.305 governs information obtained under the Solid Waste Disposal Act, as amended, including amendments made by the Resource Conservation and Recovery Act of 1976, as amended, 42 U.S.C. 6901 et seq. In accordance with the provisions of 40 CFR part 2, subpart B, policies and procedures for handling information collected from industry, under the authority of RCRA, have been established, including the RCRA CBI Security Manual.

Pursuant to 40 CFR 2.305(h)(2)-(3), EPA is giving notice that it has entered into a contract with Plateau, Contract GS-35F-0166V, entitled “Smart Mobile Tools for Field Inspectors”, located in Fairfax, Virginia. To assist in fulfilling this contract, Plateau has entered into a subcontract with the Eastern Research Group (ERG), located in Lexington, Massachusetts. Additionally, SRA International, Inc. is the prime contractor for the EPA Task Order entitled “Infrastructure Support and Applications Hosting”, Task Order No. GSQ0017AJ0037, which includes a work scope for the Smart Tools project. SRA International, Inc. is located in Chantilly, Virginia. Plateau/ERG and SRA International, Inc. will assist the Office of Enforcement and Compliance Assurance, as well as EPA regional offices, in the electronic storage of information gathered during inspections conducted under the authority of RCRA; some of which may contain RCRA CBI. The Plateau/ERG contract period is from April 30, 2019 to April 29, 2021. The SRA International, Inc. contract period is from March 29, 2017 to March 28, 2022. Plateau/ERG and SRA International, Inc. shall protect from unauthorized disclosure all information designated as confidential and shall abide by all RCRA CBI requirements, including procedures outlined in the RCRA CBI Security Manual.

All EPA contractor and subcontractor personnel are bound by the requirements and sanctions contained in their contracts with EPA and in EPA's CBI regulations found at 40 CFR part 2, subpart B. Plateau/ERG will adhere to an EPA-approved security plan which describes procedures to protect CBI. Plateau/ERG will apply the procedures in this plan to CBI previously gathered by EPA and to CBI that may be gathered in the future. The security plan specifies that contractor personnel are required to sign non-disclosure agreements and are briefed on appropriate security procedures before they are permitted access to CBI. No person is automatically granted access to CBI: A need to know must exist.

Dated: February 28, 2020.
Kathleen Salyer,
Acting Office Director, Office of Resource Conservation and Recovery.

[FR Doc. 2020-05514 Filed 3-16-20; 8:45 am]

BILLING CODE 6560-50-P